DEPARTMENT OF INTERIOR

Bureau of Land Management

[CA-180-1630/PD]

Camping and Firearms Restrictions

ACTION: Final supplementary rules and written orders.

SUMMARY: In previous Federal Register Notices, the Bureau of Land Management (BLM) has enacted numerous Supplementary Rules and Orders to provide management and protection of Public Lands and resources. The BLM has republished those existing Supplementary Rules and Orders to correct typographical errors, correct administrative errors, to review the need for the Rule, and to provide for additional public comment. The proposed Supplementary Rules and Written Orders were published in the Federal Register September 5, 2000 (Volume 65, Number 172, page 53746).

No comments were received to the proposed Supplementary Rules and Written Orders. Two changes were to the proposed Supplementary Rules and Written Orders. A change was made to correct an error in the legal description for the Supplementary Rules for the Red Hills. The second change was deleting “and persons visiting registered campers” from section (g) of the Merced River Written Orders. No other changes were made from the proposed Supplementary Rules and Written Orders.

Supplementary Rules: South Yuba River

Action: Establishment of camping, day use, and firearms Supplementary Rules on Public Lands within the South Yuba Recreation Area of the Folsom Field Office, California. These rules shall apply to all public lands within sections 1 and 2, Township 16 north, Range 7 east; sections 25, 26, 27, 34, 35, 36, Township 17 north, Range 7 east; sections 13, 23, 24, 25, 26, 27, 28, 29, 30, 31, 32, 33, 34, Township 17 north, Range 8 east; sections 7, 9, 10, 11, 13, 14, 15, 16, 17, 18, 19, 20, 21, 22, 29, 30, Township 17 north, Range 9 east; all of the Mt. Diablo meridian.

Supplementary Rules

(a) No person shall camp within area described as one quarter mile downstream and one-half mile upstream from Edward's Crossing bridge and within one quarter mile on each side of the South Yuba River.

(b) No person shall occupy a campsite in the South Yuba Campground with more than two motor vehicles or more than eight adults.

(c) No person shall discharge a firearm within one half mile of the South Yuba Campground and within the day use area described in (a).

(d) No person shall use, build, attend, or maintain a campfire within the day use area described in (a).

(e) No person shall operate a motor vehicle on the South Yuba Trail.

(f) No person shall operate a motor vehicle within one quarter mile of each side of the South Yuba River except on roads and trails designated for motorized use. The following Supplementary Rules shall apply only to the Hoyt's Crossing Area, specifically to all public land within sections 28 and 34, Township 17 north, Range 8 east of the Mt. Diablo meridian. This action was necessary to limit adverse impacts to public lands while long term planning is underway. The California State Parks and the County of Nevada urged BLM to enact restrictions in the Hoyt's Crossing area to reduce ongoing problems. These Supplementary Rules will protect the resources and the recreational experience until planning is completed.

(g) No person shall camp.

(h) No person shall build, maintain, attend, or use a campfire.

(i) No person shall possess or consume any alcoholic beverage.

(j) No person shall possess any bottle or container made of glass.

A firearm is defined under Title 18, United States Code, section 921(a)(3). Camping is defined as the use, construction, or taking possession of public lands using tents, shacks, leantos, tarps, vehicles, huts, blankets, or sleeping bags. Campfire is defined as a controlled fire occuring out of doors used for cooking, branding, personal warmth, lighting, ceremonial, or esthetic purposes. The term alcoholic beverage includes alcohol, spirits, liquor, wine, beer, and every liquid or solid containing alcohol, spirits, wine, or beer, and which contains one-half of one percent or more of alcohol by volume and which is fit for beverage purposes either alone or when diluted, mixed, or combined with other substances.

SUPPLEMENTARY INFORMATION: The purpose of these Rules is to protect resources of the public lands, persons, and property. Authority for these Rules is contained in the Code of Federal Regulations, Title 43, § 8365.1-6. Any person who fails to comply with these Rules may be subject to a fine not to exceed 100,000 dollars and/or 12 months imprisonment. These penalties are specified in United States Code, Title 43, section 303, and United States Code, Title 18, section 3623. Federal, state, and local law enforcement personnel and emergency service personnel, while performing official duties, are exempt from these Rules.

Written Orders: North Fork American River

Action: Closure of all public lands administered by the Bureau of Land Management within the boundaries of the North Fork of the American River Wild and Scenic corridor to the operation or possession of motorized vehicles or equipment and other restrictions. These Written Orders shall apply on public lands described from the BLM boundary upstream from the Iowa Hill Road bridge (approximately one eighth mile upstream from the bridge) east to the National Forest boundary and within one quarter mile of each side of the river. These public lands are contained in section 36, Township 15 north, Range 9 east; and sections 1, 2, 9, 10, 11, 14, 15, 16, 20, 21, 22, 28, 29, 30, 31 and 32, Township 15 north, Range 10 east; of the Mt. Diablo meridian. Summary: The BLM section of the North Fork of the American River was classified “wild” by the Wild and Scenic River Act as amended (Pub. L. 95-625, November 10, 1978). These Written Orders are necessary to insure public use is consistent with the Act.

Written Order:

(a) No person shall use or posses a motorized vehicle or motorized equipment.

(b) No person shall operate a motorized vehicle on the Steven's Trail.

(c) No person shall operate a motor vehicle except on roads and trails designated for motorized use.

(d) No person shall camp more than fourteen (14) days in any ninety (90) day period.

Supplementary Information: Camping is defined as the use, construction, or taking possession of public lands using tents, shacks, leantos, tarps vehicles, huts, blankets, or sleeping bag. The authority for this Written Order is contained in the Code of Federal Regulations, Title 43, § 8351.2-1. Any person who fails to comply with this Written Order may be subject to a fine not to exceed 500 dollars and/or imprisonment not to exceed 6 months. These penalties are specified in the Code of Federal Regulations, Title 43, section 8351.2-1(f). The following persons are exempt from this Written Order: 1. Any Federal, state, local government officer or member of an organized rescue or fire suppression force in the performance of an official duty, 2. Persons with written permission authorizing the otherwise prohibited act or omission.

Supplementary Rules; Red Hills Area of Critical Environmental Concern

Action: Establishment of firearms and vehicle use restrictions in the Red Hills Area of Environmental Concern. These Supplementary Rules apply within the Red Hills Area of Environmental Concern as described in Federal Register, volume 50, number 46, March 8, 1985; specifically on all public lands within sections 1, 2, 11, 12, and 13, Township 1 south, Range 13 east; and sections 6, 7, 8, 16, 17, 18, 19, 20, 21, 22, 23, 24, 25, 26, 27, 28, 29, 34, 35, Township 1 south Range 14 east in the Mt. Diablo meridian.

Supplementary Rules

(a) No person shall discharge any firearm. For the purposes of this Rule, a firearm is defined as under United States Code, Title 18, section 921(a)(3). Licensed sport hunters in the legitimate and legal pursuit of game with an appropriate firearm and during the proper season as defined by the California fish and Game shall be exempt from this Supplementary Rule.

(b) No person shall operate a motor vehicle off designated routes of travel.

(c) No person shall operate a motor vehicle unless the vehicle is registered for street use in accordance with the California Vehicle Code, section 4000a.

Supplementary Information: Authority for these Supplementary Rules is contained in the Code of Federal Regulations, Title 43, section 8364.1. Any person who fails to comply with these Supplementary Rules may be subject to fines not to exceed 100,000 dollars and/or not to exceed imprisonment of 12 months. These penalties are specified by United States Code, Title 43, section 303; and United States Code, Title 18, section 3623. Federal state, and local law enforcement personnel and emergency service personnel, while performing official duties, are exempt from these Rules.

Written Orders: Merced River Wild and Scenic River

Action: Establishment of Written Orders for the management of public lands along the Merced River.

Summary: The Merced River was classified “wild” and “scenic” in accordance with the Wild and Scenic Rivers Act as amended (Pub. L. 95-625, November 10, 1978). These Written Orders shall insure management of the public lands consistent with these classifications. These Written Orders apply to public lands within one quarter mile of the river; from the National Forest boundary west to Lake McClure. These public lands are contained within sections 1, 2, 4, 5, 6, 9, 10, 11, 15, Township 4 south, Range 17 east; and sections 2, 3, 5, 6, 8, 9, 10, 11, 16, 17, 25, 35, 36, Township 3 south, Range 18 east; Mt. Diablo meridian.

Written Orders

(a) No person shall discharge a firearm within one quarter mile of each side of the Merced River. A firearm is defined as under United States Code, Title 43, section 921(a)(3).

(b) No person shall occupy a campsite in a developed campground with more than two motor vehicles or more than eight adults.

(c) No person shall camp outside of designated campgrounds along the Merced River within the area described as one quarter mile upriver from Briceburg to one quarter mile below Railroad Flat Campground; and between the river and one quarter mile north of the Merced River. Camping is defined in Supplementary Rules for the South Yuba River.

(d) No person shall operate a motor vehicle on the old railroad bed between the high water mark of Lake McClure and the Railroad Flat Campground; or between Briceburg and the National Forest boundary.

(e) No person shall operate a motor vehicle on the Briceburg Road unless it is registered for street use as defined in the California Vehicle Code, section 4000a.

(f) No person shall operate a motor vehicle off the Briceburg Road or the developed campground roads.

(g) No person shall enter a developed campground between 10 p.m. and 6 a.m. unless that person is a registered camper.

(h) No person shall operate or possess a motor vehicle or motorized equipment in the classified “wild” section of the Merced River; which is described as the section between the high water mark of Lake McClure and the Railroad Flat Campground.

(i) No person shall possess any glass beverage container within one quarter mile of each side of the Merced River.

(j) No person shall occupy a campsite for longer than 30 minutes without placing the required camping fee in the envelopes provided for that purpose, providing the written information on the envelope, and depositing the envelope with the required fee into the fee collection receptacle.

(k) No person shall camp more than fourteen (14) days in any ninety (90) day period.

(l) No person shall leave any property unattended for more than twenty four (24) hours.

SUPPLEMENTARY INFORMATION: The authority for this Written Order is contained in the Code of Federal Regulations, Title 43, § 8351.2-1. Any person who fails to comply with these Written Orders may be subject to a fine not to exceed 500 dollars and/or imprisonment not to exceed 6 months. These penalties are specified in the Code of Federal Regulations, Title 43, § 8351.2-1(f). The following persons are exempt from this Written Order: 1. Any Federal, state, local government officer or member of an organized rescue or fire suppression force in the performance of an official duty, 2. Persons with written permission authorizing the otherwise prohibited act or omission.

FOR ADDITIONAL INFORMATION CONTACT: Deane Swickard, Field Manager, 63 Natoma Street, Folsom, CA 95630. Information can also be obtained via e-mail to Deane Swickard@ca.blm.gov.

Mike Pool,
State Director, California.

[FR Doc. 01-16875 Filed 7-5-01; 8:45 am]

BILLING CODE 4310-40-M